DEPARTMENT OF TRANSPORTATION

Federal Aviation Administration

14 CFR Part 39

[Docket No. FAA-2005-21344; Directorate Identifier 2004-NM-190-AD; Amendment 39-14283; AD 2005-19-18]

RIN 2120-AA64

Airworthiness Directives; Short Brothers Model SD3 Airplanes

AGENCY: Federal Aviation Administration (FAA), Department of Transportation (DOT).

ACTION: Final rule.

SUMMARY: The FAA is superseding an existing airworthiness directive (AD), which applies to all Short Brothers Model SD3-30 and SD3-60 airplanes equipped with certain fire extinguishers. That AD currently requires replacement of the covers for fire extinguisher adapter assemblies that are installed on certain bulkheads with new covers that swivel to lock the extinguishers in place; and replacement of nozzles and triggers on these fire extinguishers with better fitting nozzles and stronger triggers. The existing AD also currently requires the installation of new fire extinguisher point placards and a revision of the airplane flight manual (AFM) to instruct the flightcrew in the use of the new covers for these adapter assemblies. This new AD also requires modification of the fire extinguishing point adapter assembly of the forward and aft baggage bays as applicable. This new AD also adds airplanes to the applicability. For these new airplanes, this new AD requires a revision to the AFM for instructions on using the new fire extinguisher adapter. This AD results from reports of individuals experiencing fire extinguishant blowback when the extinguishant discharges through the fire extinguishing point adapters. We are issuing this AD to prevent fire extinguishant blowback, which could result in injury to a person using the fire extinguisher in the event of a fire.

DATES: Effective October 26, 2005.

The Director of the Federal Register approved the incorporation by reference of certain publications listed in the AD as of October 26, 2005.

The Director of the Federal Register previously approved the incorporation by reference of certain other publications, as listed in the regulations, as of June 8, 1998 (63 FR 24387, May 4, 1998).

ADDRESSES: You may examine the AD docket on the Internet at http://dms.dot.gov or in person at the Docket Management Facility, U.S. Department of Transportation, 400 Seventh Street SW., Nassif Building, Room PL-401, Washington, DC.

Contact Short Brothers, Airworthiness & Engineering Quality, PO Box 241, Airport Road, Belfast BT3 9DZ, Northern Ireland, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 98-09-28, amendment 39-10509 (63 FR 24387, May 4, 1998). The existing AD applies to all Short Brothers Model SD3-30 and SD3-60 airplanes equipped with certain fire extinguishers. That NPRM was published in the Federal Register on June 3, 2005 (70 FR 32537). That NPRM proposed to continue to require the actions of AD 98-09-28. That NPRM also proposed to require modification of the fire extinguishing point adapter assembly of the forward and aft baggage bays as applicable. That NPRM also proposed to add airplanes to the applicability. For those new airplanes, that NPRM proposed to require a revision to the airplane flight manual (AFM) for instructions on using the new fire extinguisher adapter.

Comments

We provided the public the opportunity to participate in the development of this AD. No comments have been received on the NPRM or on the determination of the cost to the public.

Explanation of Change to Applicability

We have revised the applicability of this AD to identify model designations as published in the most recent type certificate data sheet for the affected models.

Conclusion

We have carefully reviewed the available data and determined that air safety and the public interest require adopting the AD with the change described previously. We have determined that this change will neither increase the economic burden on any operator nor increase the scope of the AD.

Costs of Compliance

This AD affects about 75 airplanes of U.S. registry.

The actions that are required by AD 98-09-28 and retained in this AD take about between 9 and 14 work hours per airplane, depending on airplane configuration, at an average labor rate of $65 per work hour. Required parts cost between $735 and $776 per airplane, depending on airplane configuration. Based on these figures, the estimated cost of the currently required actions is between $1,320 and $1,686 per airplane.

The new actions take about 1 work hour per airplane, at an average labor rate of $65 per work hour. Based on these figures, the estimated cost of the new actions specified in this AD for U.S. operators is $4,875, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10509 (63 FR 24387, May 4, 1998) and by adding the following new airworthiness directive (AD):

2005-19-18 Short Brothers PLC: Amendment 39-14283. Docket No. FAA-2005-21344; Directorate Identifier 2004-NM-190-AD.

Effective Date

(a) This AD becomes effective October 26, 2005.

Affected ADs

(b) This AD supersedes AD 98-09-28.

Applicability

(c) This AD applies to all Shorts Model SD3-60 SHERPA, SD3-SHERPA, SD3-30, and SD3-60 airplanes, certificated in any category.

Unsafe Condition

(d) This AD was prompted by reports of individuals experiencing fire extinguishant blowback when the extinguishant discharges through the fire extinguishing point adapters. We are issuing this AD to prevent fire extinguishant blowback, which could result in injury to a person using the fire extinguisher in the event of a fire.

Compliance

(e) You are responsible for having the actions required by this AD performed within the compliance times specified, unless the actions have already been done.

Requirements of AD 98-09-28

Install New Covers

(f) For Model SD3-30 and SD3-60 airplanes equipped with Fire Fighting Enterprises (U.K.) Ltd. fire extinguishers: Within 6 months after June 8, 1998 (the effective date of AD 98-09-28), install a new cover on each fire extinguisher adapter assembly on bulkheads between the passenger cabin and aft and/or forward baggage bay, in accordance with Shorts Service Bulletin SD330-26-14, dated September 1994 (for Shorts Model SD3-30 airplanes), or Shorts Service Bulletin SD360-26-11, dated July 1994 (for Shorts Model SD3-60 airplanes), as applicable.

Install Placards and Revise the Airplane Flight Manual (AFM)

(g) For Model SD3-30 and SD3-60 airplanes equipped with Fire Fighting Enterprises (U.K.) Ltd. fire extinguishers: Prior to further flight after accomplishing the actions required by paragraph (f) of this AD, accomplish both paragraphs (g)(1) and (g)(2) of this AD:

(1) Install new fire extinguisher point placards, in accordance with Shorts Service Bulletin SD330-26-14, dated September 1994 (for Shorts Model SD3-30 airplanes), or Shorts Service Bulletin SD360-26-11, dated July 1994 (for Shorts Model SD3-60 airplanes), as applicable. And

(2) Revise the Limitations section of the FAA-approved AFM, in accordance with Note 1 of Paragraph 1.C. of Shorts Service Bulletin SD330-26-14, dated September 1994 (for Shorts Model SD3-30 airplanes), or Shorts Service Bulletin SD360-26-11, dated July 1994 (for Shorts Model SD3-60 airplanes), as applicable.

Corrective Actions for Fire Extinguishers With Certain Part Numbers

(h) For Model SD3-30 and SD3-60 airplanes equipped with fire extinguishers having part number (P/N) BA51012SR-3 or BA51012SR: Within 6 months after June 8, 1998, accomplish either paragraph (h)(1) or (h)(2) of this AD:

(1) Install a chamfered nozzle on the discharge head assembly of each fire extinguisher and add a new trigger by replacing the discharge head assembly with a new discharge head assembly having P/N BA22988-3, in accordance with Fire Fighting Enterprises (U.K.) Ltd. Service Bulletin 26-107, Revision 1, dated November 2, 1992.

Or

(2) Replace the trigger on the discharge head assembly of each fire extinguisher with a new trigger, in accordance with Fire Fighting Enterprises (U.K.) Ltd. Service Bulletin 26-108, dated September 1992. After replacement, install a chamfered nozzle on the discharge head assembly of each fire extinguisher by reworking the discharge head assembly in accordance with Fire Fighting Enterprises (U.K.) Ltd. Service Bulletin 26-107, Revision 1, dated November 2, 1992.

New Requirements of This Ad

Modify the Fire Extinguishing Point Adapter Assembly

(i) For Model SD3 airplanes equipped with Fire Fighting Enterprises (U.K.) Ltd. fire extinguishers: Within 3 months after the effective date of this AD, modify the fire extinguishing point adapter assembly of the forward and aft baggage bays, as applicable, by doing all of the actions specified in the Accomplishment Instructions of Shorts Service Bulletin SD330-26-15, dated May 29, 2002 (for Model SD3-30 airplanes); Shorts Service Bulletin SD360-26-13, dated May 29, 2002 (for Model SD3-60 airplanes); Shorts Service Bulletin SD360 Sherpa-26-1, dated May 29, 2002 (for Model SD3-60 SHERPA airplanes); or Shorts Service Bulletin SD3 Sherpa-26-3, dated May 29, 2002 (for Model SD3-SHERPA airplanes); as applicable.

Revise AFM of Certain Airplanes

(j) For Model SD3-60 SHERPA and SD3-SHERPA airplanes equipped with Fire Fighting Enterprises (U.K.) Ltd. fire extinguishers: Before further flight after accomplishing the modification required by paragraph (i) of this AD, revise the Limitations section of the Short Brothers SD3-60 SHERPA AFM, Document No. SB.6.2, by inserting into the AFM Short Brothers Document No. SB.6.2, Amendment P/5, dated February 6, 2002 (for Model SD3-60 SHERPA airplanes); or of the Short Brothers SD3-SHERPA AFM, Document No. SB.5.2, by inserting into the AFM Short Brothers Document No. SB.5.2, Amendment P/7, dated February 6, 2002 (for Model SD3-SHERPA airplanes); as applicable.

Alternative Methods of Compliance (AMOCs)

(k) The Manager, International Branch, ANM-116, Transport Airplane Directorate, FAA, has the authority to approve AMOCs for this AD, if requested in accordance with the procedures found in 14 CFR 39.19.

Related Information

(l) British airworthiness directives 005-05-2002, 006-05-2002, 007-05-2002, and 008-05-2002 also address the subject of this AD.

Material Incorporated by Reference

(m) You must use the service information listed in Table 1 of this AD to perform the actions that are required by this AD, unless the AD specifies otherwise.

Table 1.—All Material Incorporated by Reference
Service information | Revision level | Date
Amendment P/5 to the Short Brothers SD3-60 SHERPA Flight Manual, Document No. SB.6.2 | Original | February 6, 2002.
Amendment P/7 to the Short Brothers SD3-SHERPA Flight Manual, Document No. SB.5.2 | Original | February 6, 2002.
Fire Fighting Enterprises (U.K.) Ltd. Service Bulletin 26-107 | Revision 1 | November 2, 1992.
Fire Fighting Enterprises (U.K.) Ltd. Service Bulletin 26-108 | Original | September 1992.
Short Brothers Shorts Service Bulletin SD330-26-14 | Original | September 1994.
Short Brothers Shorts Service Bulletin SD360-26-11 | Original | July 1994.
Shorts Service Bulletin SD3 Sherpa-26-3 | Original | May 29, 2002.
Shorts Service Bulletin SD330-26-15 | Original | May 29, 2002.
Shorts Service Bulletin SD360 Sherpa-26-1 | Original | May 29, 2002.
Shorts Service Bulletin SD360-26-13 | Original | May 29, 2002.

(1) The Director of the Federal Register approved the incorporation by reference of the service information listed in Table 2 of this AD in accordance with 5 U.S.C. 552(a) and 1 CFR part 51.

Table 2.—New Material Incorporated by Reference
Service information | Date
Amendment P/5 to the Short Brothers SD3-60 SHERPA Flight Manual, Document No. SB.6.2 | February 6, 2002.
Amendment P/7 to the Short Brothers SD3-SHERPA Flight Manual, Document No. SB.5.2 | February 6, 2002.
Shorts Service Bulletin SD3 Sherpa-26-3 | May 29, 2002.
Shorts Service Bulletin SD330-26-15 | May 29, 2002.
Shorts Service Bulletin SD360 Sherpa-26-1 | May 29, 2002.
Shorts Service Bulletin SD360-26-13 | May 29, 2002.

Short Brothers SD3-60 SHERPA Flight Manual, Document No. SB.6.2 contains the following current pages:

Page No. | Revision level shown on page | Date shown on page
List of current pages 7 | G/1 | April 24, 1996.
7A, 7B | Basic | April 18, 1996.
Particular Amendment Record Sheet 9 | Basic | April 18, 1996.

(For Document No. SB.6.2, the Basic Issue date is only located on page 1, Section 1; the general amendment date is only located on the “General * Amendment Record Sheet;” and the particular amendment dates are only located on the “Particular * Amendment Record Sheet.”)

Short Brothers SD3-SHERPA Flight Manual, Document No. SB.5.2, contains the following current pages:

Page No. | Revision level shown on page | Date shown on page
List of current pages 7 | G/3 | December 1, 1993.
7A | G/2 | September 25, 1992.
7B | Basic | August 30, 1990.
Particular Amendment Record Sheet 9 | Basic | August 30, 1990.

(For Document No. SB.5.2., the Basic Issue date is only located in the CAA approval letter dated August 31, 1990; the general amendment dates are located only on the “General * Amendment Record Sheet;” the particular amendment dates are only located on the “Particular * Amendment Record Sheet.”)

(2) The Director of the Federal Register previously approved the incorporation by reference of the service information listed in Table 3 of this AD as of June 8, 1998 (63 FR 24387, May 4, 1998).

Table 3.—Material Previously Incorporated by Reference
Service Bulletin | Revision level | Date
Fire Fighting Enterprises (U.K.) Ltd. Service Bulletin 26-107 | Revision 1 | November 2, 1992.
Fire Fighting Enterprises (U.K.) Ltd. Service Bulletin 26-108 | Original | September 1992.
Short Brothers Shorts Service Bulletin SD330-26-14 | Original | September 1994.
Short Brothers Shorts Service Bulletin SD360-26-11 | Original | July 1994.

(3) Contact Short Brothers, Airworthiness & Engineering Quality, P.O. Box 241, Airport Road, Belfast BT3 9DZ, Northern Ireland, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 12, 2005.
Kalene C. Yanamura,
Acting Manager, Transport Airplane Directorate, Aircraft Certification Service.

[FR Doc. 05-18524 Filed 9-20-05; 8:45 am]

BILLING CODE 4910-13-P